DEPARTMENT OF THE INTERIOR

Bureau of Land Management

[CO-935-1430-ET; COC-28584, COC-28576, COC-28620]

Public Land Order No. 7441; Partial Revocation of Secretarial Orders Which Established Power Site Reserve No. 92 and Power Site Classification No. 32; Opening of Land Under Section 24 of the Federal Power Act; Colorado

AGENCY: Bureau of Land Management, Interior.

ACTION: Public land order.

SUMMARY: This order revokes two Secretarial orders insofar as they affect 1,910.36 acres of public lands withdrawn for the Bureau of Land Management's Power Site Reserve No. 92 and Power Site Classification No. 32. This order also opens, subject to Section 24 of the Federal Power Act, 7 acres of National Forest System land in Power Site Reserve No. 32 to disposal. These actions will allow for consummation of pending land exchanges. All the lands have been open to mineral leasing and, under the provisions of the Mining Claims Rights Restoration Act of 1955, to mining.

EFFECTIVE DATE: May 12, 2000.

FOR FURTHER INFORMATION CONTACT: Doris E. Chelius, BLM Colorado State Office, 2850 Youngfield Street, Lakewood, Colorado 80215-7076, 303-239-3706.

By virtue of the authority vested in the Secretary of the Interior by Section 204 of the Federal Land Policy and Management Act of 1976, 43 U.S.C. 1714 (1994), it is ordered as follows:

1. The Secretarial Orders dated December 30, 1909, and April 29, 1922, which established Power Site Reserve No. 92 and Power Site Classification No. 32, respectively, are hereby revoked insofar as they affect the following described public lands:

New Mexico Principal Meridian

T. 49 N., R. 9 E.,

Sec. 10, E½SW¼ and SE¼;

Sec. 11, SW¼SW¼;

Sec. 13, SE¼SE¼NE¼, E½E½NE¼SE¼, SW¼NW¼SE¼, and SE¼SE¼;

Sec. 14, N½;

Sec. 15, N½NE¼NE¼, SW¼NE¼NE¼, and NW¼NE¼;

Sec. 24, E½NE¼.

T. 49 N., R. 10 E.,

Sec. 19, lots 3, 9, 10, and lots 12 to 15, inclusive, NW¼NE¼, S½NE¼, NE¼NW¼, E½SW¼SW¼, SE¼SW¼, and S½SE¼;

Sec. 30, NE¼NE¼.

T. 50 N., R. 8 E.,

Sec. 10, NE¼ and NW¼SE¼;

Sec. 13, NE¼SW¼;

Sec. 14, SE¼NE¼;

Sec. 16, W½NE¼.

T. 50 N., R. 9 E.,

Sec. 19, NW¼NW¼ and NE¼SE¼;

Sec. 32, N½NE¼.

The areas described aggregate 1,910.36 acres in Fremont and Chaffee Counties.

2. At 9 a.m. on May 12, 2000, the lands described in paragraph 1, will be opened to the operation of the public land laws generally, subject to valid existing rights, the provisions of existing withdrawals, and the requirements of applicable law. All valid applications received on or prior to 9 a.m on May 12, 2000, shall be considered as simultaneously filed at that time. Those received thereafter shall be considered in the order of filing.

3. The State of Colorado has waived their preference right for public highway or material sites as provided by the Act of June 10, 1920, Section 24, as amended, 16 U.S.C. 818 (1994).

4. The lands described in paragraph 1 have been open to mining under the provisions of the Mining Claims Rights Restoration Act of 1955, 30 U.S.C. 621 (1994). However, since the act applies only to lands withdrawn for power purposes, provisions of the act are no longer applicable. The lands have been and will remain open to mineral leasing.

5. By virtue of the authority vested in the Secretary of the Interior by the Act of June 10, 1920, Section 24, as amended, 16 U.S.C. 818 (1994), and pursuant to the determination by the Federal Energy Regulatory Commission in DVCO-553-000, it is ordered as follows:

At 9 a.m. on May 12, 2000, the following described National Forest System land withdrawn by the Secretarial Order dated July 2, 1910, which established Power Site Reserve No. 32, will be opened to such forms of disposition as may by law be made of National Forest System lands, subject to the provisions of Section 24 of the Federal Power Act as specified by the Federal Energy Regulatory Commission determination DVCO-553-000 and subject to valid existing rights, the provisions of existing withdrawals, other segregations of record, and the requirements of applicable law:

Roosevelt National Forest

Sixth Principal Meridian

T. 4 S., R. 78W.,

Sec. 26, that portion of lot 16 west of Highway No. 9.

The area described contains 7 acres of National Forest System land in Summit County.

6. The land described in paragraph 5 has been and will remain open to mineral leasing and to location and entry under the provisions of the Mining Claims Rights Restoration Act of 1955, 30 U.S.C. 621 (1994).

Dated: March 21, 2000.
Sylvia V. Baca,
Assistant Secretary of the Interior.

[FR Doc. 00-9020 Filed 4-11-00; 8:45 am]

BILLING CODE 4310-JB-P